DEPARTMENT OF COMMERCE

Submission for OMB Review; Comment Request

The Department of Commerce (DOC) has submitted to the Office of Management and Budget (OMB) for clearance the following proposal for collection of information under provisions of the Paperwork Reduction Act (44 U.S.C. Chapter 35).

Agency: Bureau of Industry and Security (BIS).

Title: Short Supply Regulations, Petroleum (Crude Oil).

Agency Form Number: None.

OMB Approval Number: 0694-0027.

Type of Request: Extension of a currently approved collection of information.

Burden: 114 hours.

Average Time Per Response: 4 to 10 hours per response.

Number of Respondents: 15 respondents.

Needs and Uses: The information is collected in the form of supporting documentation for license applications to export petroleum (crude oil) and is used by licensing officers to determine the exporter's compliance with the 5 statutes governing this collection.

Affected Public: Individuals, businesses or other for-profit institutions.

Respondent's Obligation: Required to obtain or retain a benefit.

OMB Desk Officer: David Rostker.

Copies of the above information collection proposal can be obtained by calling or writing Diana Hynek, Departmental Forms Clearance Officer, (202) 482-0266, Department of Commerce, Room 6625, 14th and Constitution Avenue, NW., Washington, DC 20230 (or via the Internet at dhynek@doc.gov).

Written comments and recommendations for the proposed information collection should be sent within 30 days of publication of this notice to David Rostker, OMB Desk Officer, Room 10202, New Executive Office Building, Washington, DC 20230.

Dated: February 10, 2004.
Madeleine Clayton,
Management Analyst, Office of the Chief Information Officer.

[FR Doc. 04-3294 Filed 2-13-04; 8:45 am]

BILLING CODE 3510-33-P